ENVIRONMENTAL PROTECTION AGENCY

40 CFR Part 81

[EPA-HQ-OAR-2015-0359; FRL-9929-97-OAR]

RIN 2060-AR95

Air Quality Designations for the 2006 24-hour Fine Particle National Ambient Air Quality Standards (2006 24-hour PM2.5 NAAQS), 1997 Annual PM2.5 NAAQS, and 1987 Annual Coarse Particle (PM10) NAAQS; Technical Amendments to Inadvertent Errors

AGENCY: Environmental Protection Agency.

ACTION: Final rule.

SUMMARY: Pursuant to its authority under the Clean Air Act (CAA), the Environmental Protection Agency (EPA) is promulgating this final action to make technical amendments to address several minor, inadvertent and nonsubstantive errors in the regulatory text establishing the air quality designations for the 2006 24-hour fine particle (PM2.5) National Ambient Air Quality Standards (NAAQS), 1997 annual PM2.5 NAAQS, and 1987 annual coarse particle (PM10) NAAQS. Consistent with the EPA's interpretation of the good cause exemption provisions outlined in the Administrative Procedure Act, this action is being taken without notice and comment. The states to which these amendments apply are New York and West Virginia.

DATES: The effective date of these technical amendments is August 28, 2015.

FOR FURTHER INFORMATION CONTACT: For general questions concerning this action, please contact Andy Chang, U.S. EPA, Office of Air Quality Planning and Standards, Air Quality Planning Division, C539-04, Research Triangle Park, NC 27711, telephone (919) 541-2416, email at chang.andy@epa.gov.

SUPPLEMENTARY INFORMATION:

Table of Contents

The following is an outline of the preamble.

I. What is the good cause exemption, and why is the EPA using it?

II. What is the purpose of this action?

III. What are the technical amendments to inadvertent errors in prior designations?

A. Technical Amendments Concerning Designations for the 2006 24-hour PM2.5 NAAQS

B. Technical Amendments Concerning Designations for the 1997 Annual PM2.5 NAAQS

C. Technical Amendments Concerning Designations for the 1987 Annual PM10 NAAQS

IV. Environmental Justice Considerations

V. Statutory and Executive Order Reviews

A. Executive Order 12866: Regulatory Planning and Review and Executive Order 13563: Improving Regulation and Regulatory Review

B. Paperwork Reduction Act

C. Regulatory Flexibility Act

D. Unfunded Mandates Reform Act (UMRA)

E. Executive Order 13132: Federalism

F. Executive Order 13175: Consultation and Coordination with Indian Tribal Governments

G. Executive Order 13045: Protection of Children from Environmental Health and Safety Risks

H. Executive Order 13211: Actions That Significantly Affect Energy Supply, Distribution, or Use

I. National Technology Transfer and Advancement Act (NTTAA)

J. Executive Order 12898: Federal Actions to Address Environmental Justice in Minority Populations and Low-Income Populations

K. Congressional Review Act

L. Judicial Review

I. What is the good cause exemption, and why is the EPA using it?

Section 553(b)(3)(B) of the Administrative Procedure Act, 5 U.S.C. 553(b)(3)(B), provides that, when an agency for good cause finds that public notice and comment procedures are impracticable, unnecessary, or contrary to the public interest, the agency may issue a rule without providing notice and an opportunity for public comment. The EPA has determined that there is good cause for making this rule final without prior proposal and opportunity for comment because such notice and opportunity for comment is unnecessary. In this action, we are amending 40 CFR part 81, which contains the tables of area designations and boundaries for each NAAQS. Notice and comment is unnecessary because the corrections made in this document were already the subject of prior notice and comment rulemakings; this action merely makes corrections to the tables in order to correctly align the information in the tables with those prior rulemakings.

II. What is the purpose of this action?

Whenever the EPA establishes a new NAAQS, section 107(d) of the CAA requires the EPA to designate all areas of the country as meeting or not meeting the new NAAQS, or as unclassifiable where available information does not support a determination whether an area is meeting the NAAQS. The area designations and boundaries for each NAAQS are set forth in tables at 40 CFR part 81.

This action makes technical amendments to minor, inadvertent and nonsubstantive errors in the 40 CFR part 81 regulatory text concerning the air quality designations for certain areas in two states for the 2006 24-hour PM2.5 NAAQS, 1997 annual PM2.5 NAAQS, and 1987 annual PM10 NAAQS. The states to which these technical amendments apply are New York and West Virginia.

Documents related to the affected designations are available in the following dockets: Docket ID No. EPA-HQ-OAR-2007-0562 (2006 24-hour PM2.5 NAAQS), Docket ID No. EPA-HQ-OAR-2003-0061 (1997 annual PM2.5 NAAQS), and Public Docket No. A-92-22 (1987 annual PM10 NAAQS). All documents in the dockets except for those for related to designations for the 1987 PM10 NAAQS, i.e., Public Docket No. A-92-22, are listed in the http://www.regulations.gov index. All materials for Public Docket No. A-92-22 are located at the EPA Docket Center. In addition, the EPA has established a Web site for these rulemakings at: http://www.epa.gov/pmdesignations/ and http://www.epa.gov/airquality/greenbook/pindex.html. These Web sites include the EPA's final PM2.5 and PM10 designations, as well as state and tribal initial recommendation letters, the EPA's modification letters, technical support documents, responses to comments and other related technical information.

A discussion of these inadvertent errors and associated corrections follows in the next section. The revisions to the regulatory text, specifically as codified in 40 CFR part 81, are provided at the end of this preamble.

III. What are the technical amendments to inadvertent errors in prior designations?

A. Technical Amendments Concerning Designations for the 2006 24-hour PM2.5 NAAQS

The EPA published its air quality designations for the 2006 24-hour PM2.5 NAAQS on November 13, 2009 (74 FR 58688). In that action, two areas in West Virginia were designated as nonattainment for this NAAQS: Charleston, West Virginia (consisting of Kanawha County and Putnam County) and the Steubenville-Weirton, Ohio-West Virginia area (consisting of Brooke County and Hancock County in West Virginia and Jefferson County in Ohio). The EPA finalized approval of West Virginia's request to redesignate the Charleston, West Virginia area to attainment on March 31, 2014 (79 FR 17884), and finalized approval of West Virginia's request to redesignate the state's portion of the Steubenville-Weirton area to attainment on March 18, 2014 (79 FR 15019). Both of these final actions correctly revised West Virginia's entries in 40 CFR 81.349 to reflect that the areas are in attainment for the 2006 24-hour PM2.5 NAAQS. However, a subsequent rulemaking finalized in the Federal Register on June 2, 2014, by the EPA titled, “Identification of Nonattainment Classifications and Deadlines for Submission of State Implementation Plan (SIP) Provisions for the 1997 Fine Particle (PM2.5) National Ambient Air Quality Standard (NAAQS) and 2006 PM2.5 NAAQS” (79 FR 31566) inadvertently and erroneously recodified the Charleston, West Virginia area and the West Virginia portion of the Steubenville-Weirton, Ohio-West Virginia area as nonattainment for the 2006 24-hour PM2.5 NAAQS. In this rulemaking, the EPA is correcting the 40 CFR 81.349 table for West Virginia with respect to the 2006 24-hour PM2.5 NAAQS to reflect that both areas within West Virginia have been redesignated to attainment, consistent with our previous March 18, 2014, and March 31, 2014, final rulemakings.

B. Technical Amendments Concerning Designations for the 1997 Annual PM2.5 NAAQS

The EPA published its air quality designations for the 1997 annual PM2.5 NAAQS on January 5, 2005 (70 FR 944). In this action, two areas in West Virginia were designated as nonattainment for this NAAQS: Charleston, West Virginia (consisting of Kanawha County and Putnam County) and the Steubenville-Weirton, Ohio-West Virginia area (consisting of Brooke County and Hancock County in West Virginia and Jefferson County in Ohio). The EPA finalized approval of West Virginia's request to redesignate the Charleston, West Virginia area to attainment on March 31, 2014 (79 FR 17884), and finalized approval of West Virginia's request to redesignate the state's portion of the Steubenville-Weirton area to attainment on March 18, 2014 (79 FR 15019). Both of these final actions correctly revised West Virginia's entries in 40 CFR 81.349 to reflect that the areas are in attainment for the 1997 annual PM2.5 NAAQS. However, a subsequent rulemaking finalized in the Federal Register on June 2, 2014, by the EPA titled, “Identification of Nonattainment Classifications and Deadlines for Submission of State Implementation Plan (SIP) Provisions for the 1997 Fine Particle (PM2.5) National Ambient Air Quality Standard (NAAQS) and 2006 PM2.5 NAAQS” (79 FR 31566) inadvertently and erroneously recodified the Charleston, West Virginia area and the West Virginia portion of the Steubenville-Weirton, Ohio-West Virginia area as nonattainment for the 1997 annual PM2.5 NAAQS. In this rulemaking, the EPA is correcting the 40 CFR 81.349 table for West Virginia with respect to the 1997 annual PM2.5 NAAQS to reflect that both areas within West Virginia have been redesignated to attainment consistent with our previous March 18, 2014, and March 31, 2014, final rulemakings.

C. Technical Amendments Concerning Designations for the 1987 Annual PM10 NAAQS

The EPA redesignated New York County, New York as nonattainment for the 1987 annual PM10 NAAQS on January 20, 1994 (58 FR 67334).¹ However, the 40 CFR part 81 table for the state is unclear as to which 1987 PM10 NAAQS the nonattainment designation applies to, specifically because at the time of the January 20, 1994, designation, there were two forms of the NAAQS. The 1987 PM10 NAAQS included an annual standard of 50 micrograms per cubic meter (annual arithmetic mean averaged over 3 years) and a 24-hour standard of 150 micrograms per cubic meter (not to be exceeded more than once per year on average over a 3-year period). The 40 CFR part 81 table for PM10 does not distinguish between the two forms of the NAAQS, and therefore New York County is codified as nonattainment for a non-specified, i.e., ambiguous form of the standard.

¹ This area was originally designated as unclassifiable for the annual PM10 NAAQS by operation of law.

The EPA has confirmed that the Madison Avenue monitor in New York County (Air Quality Systems (AQS) Site ID 36-061-0077) recorded violations of the 1987 annual PM10 NAAQS and was the basis for the county's nonattainment designation for this NAAQS. This monitor continued to serve as the county's design value monitor until 1998; at this time the monitor underwent modifications that made it no longer valid for comparison to the NAAQS, i.e., it no longer met the siting criteria for a Federal Reference Method (FRM) monitor. As a result, decisions regarding PM10 air quality since 1998 have been informed by ambient air quality data collected at other FRM monitoring sites in New York County, including the Post Office site (AQS ID 36-061-0062). None of the monitors in New York County have recorded violations of the annual PM10 NAAQS since 1998, and no violations of the 24-hour PM10 NAAQS have ever been recorded in the county. On December 2, 2013, the EPA finalized a clean data determination in the Federal Register for New York County (78 FR 72032), which determined that even though the annual form of the 1987 PM10 NAAQS had been revoked on October 17, 2006 (71 FR 61144), ambient air quality data collected in New York County indicated that this NAAQS had been attained. To clarify, New York County was designated as nonattainment for the 1987 annual PM10 NAAQS only; the area received a clean data determination from the EPA for the 1987 annual PM10 NAAQS; and the Agency has revoked the 1987 annual PM10 NAAQS. Therefore, the EPA is revising and clarifying the table for the PM10 NAAQS for the state to reflect the form of the standard, i.e., the annual PM10 NAAQS, for which New York County was designated as nonattainment, and to reflect that that standard has been revoked.

IV. Environmental Justice Considerations

When the EPA establishes a new NAAQS, section 107(d) of the CAA requires the EPA to designate all areas of the country as meeting or not meeting the new NAAQS, or as unclassifiable where available information does not support a determination whether an area is meeting the NAAQS. The area designations and boundaries for each NAAQS are set forth in tables at 40 CFR part 81.This action makes technical amendments to minor, inadvertent and nonsubstantive errors in the 40 CFR part 81 regulatory text concerning the air quality designations for certain areas in two states for the 2006 24-hour PM2.5 NAAQS, 1997 annual PM2.5 NAAQS, and 1987 annual PM10 NAAQS. The amendments apply to the states of New York and West Virginia. This action continues to protect all those residing, working, attending school or otherwise present in those areas regardless of minority and economic status.

V. Statutory and Executive Order Reviews

A. Executive Order 12866: Regulatory Planning and Review and Executive Order 13563: Improving Regulation and Regulatory Review

This action makes technical amendments to correct minor, inadvertent and nonsubstantive errors in prior area designations. This type of action is exempt from review under Executive Orders 12866 (58 FR 51735, October 4, 1993) and 13563 (76 FR 3821, January 21, 2011).

B. Paperwork Reduction Act

This action does not impose an information collection burden under the provisions of the Paperwork Reduction Act, 44 U.S.C. 3501 et seq. Burden is defined at 5 CFR 1320.3(b). This action corrects minor, inadvertent and nonsubstantive errors in prior area designations and does not require any party to perform an information collection.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations and small governmental jurisdictions. For purposes of assessing the impacts of this rule on small entities, small entity is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field.

Because the EPA has made a good cause finding that this action is not subject to notice and comment requirements under the Administrative Procedure Act or any other statute as indicated in the SUPPLEMENTARY INFORMATION section above, it is not subject to the regulatory flexibility provisions of the Regulatory Flexibility Act.

D. Unfunded Mandates Reform Act (UMRA)

This action contains no federal mandate under the provisions of Title II of the UMRA of 1995, 2 U.S.C. 1531-1538 for state, local or tribal governments or the private sector. The action does not impose an enforceable duty on any state, local or tribal governments or the private sector. Therefore, this action is not subject to the requirements of sections 202 and 205 of the UMRA.

This action is also not subject to the requirements of section 203 of UMRA because it contains no regulatory requirements that might significantly or uniquely affect small governments. This action corrects minor, inadvertent and nonsubstantive errors in prior area designations.

E. Executive Order 13132: Federalism

This action does not have federalism implications. It will not have substantial direct effects on the states, on the relationship between the national government and the states, or on the distribution of power and responsibilities among the various levels of government, as specified in Executive Order 13132. This action makes technical amendments to correct minor, inadvertent and nonsubstantive errors in prior area designations. Thus, Executive Order 13132 does not apply to this action.

F. Executive Order 13175: Consultation and Coordination With Indian Tribal Governments

This action does not have tribal implications, as specified in Executive Order 13175 (65 FR 67249, November 9, 2000). This action only makes technical amendments to correct minor, inadvertent and nonsubstantive errors in prior area designations or redesignations. None of these technical amendments has a substantial direct effect on any tribal land; thus, Executive Order 13175 does not apply to this action.

G. Executive Order 13045: Protection of Children From Environmental Health and Safety Risks

The EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution or Use

This action is not subject to Executive Order 13211 (66 FR 28355 (May 22, 2001)), because it is not a significant regulatory action under Executive Order 12866.

I. National Technology Transfer and Advancement Act (NTTAA)

Section 12(d) of the NTTAA of 1995, Public Law 104-113, section 12(d) (15 U.S.C. 272 note) directs the EPA to use voluntary consensus standards (VCS) in its regulatory activities unless to do so would be inconsistent with applicable law or otherwise impracticable. VCS are technical standards (e.g., materials specifications, test methods, sampling procedures and business practices) that are developed or adopted by VCS bodies. The NTTAA directs the EPA to provide Congress, through the Office of Management and Budget, explanations when the agency decides not to use available and applicable VCS. This action does not involve technical standards. Therefore, the EPA did not consider the use of any VCS.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies and activities on minority populations and low-income populations in the U.S.

The EPA has determined that this rule will not have disproportionately high and adverse human health or environmental effects on minority or low-income populations because it does not affect the level of protection provided to human health or the environment. This action makes technical amendments to correct minor, inadvertent, nonsubstantive errors in the designations for certain areas. The results are also contained in section IV titled, “Environmental Justice Considerations” of this preamble.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives and the Comptroller General of the United States prior to publication of the rule in the Federal Register. A major rule cannot take effect until 60 days after it is published in the Federal Register. However, section 808 allows the issuing agency to make a rule effective sooner than otherwise provided by the CRA if the agency makes a good cause finding that notice and public procedure is impracticable, unnecessary or contrary to the public interest. This determination must be supported by a brief statement. 5 U.S.C. 808(2). As stated previously, the EPA had made such a good cause finding, including the reasons therefore, and established an effective date of August 28, 2015. These technical amendments to inadvertent errors do not constitute a “major rule” as defined by 5 U.S.C. 804(2).

L. Judicial Review

In the final actions designating areas for the PM10 NAAQS, the EPA determined that the actions were “nationally applicable” within the meaning of CAA section 307(b)(1). Likewise, the EPA also determined that the final action identifying nonattainment classifications and deadlines for SIP provisions for the 1997 annual PM2.5 NAAQS and 2006 24-hour PM2.5 NAAQS was nationally applicable. Because this action is making corrections to those nationally applicable rules, we are determining that this action is also nationally applicable within the meaning of section 307(b)(1). Thus, petitions for review of this final action must be filed in the Court of Appeals for the District of Columbia Circuit. Section 307(b)(1) requires such petitions to be filed within 60 days from the date the final action is published in the Federal Register.

List of Subjects in 40 CFR Part 81

Environmental protection, Air pollution control, National parks, Wilderness areas.

Dated: July 21, 2015.
Gina McCarthy,
Administrator.

For the reasons set forth in the preamble, 40 CFR part 81 is amended as follows:

PART 81—DESIGNATION OF AREAS FOR AIR QUALITY PLANNING PURPOSES

1. The authority citation for part 81 continues to read as follows:

Authority: 42 U.S.C. 7401, et seq.

Subpart C—Section 107 Attainment Status Designations

2. Section 81.333 is amended by revising the table titled “New York—PM-10” to read as follows:

§ 81.333 New York.

* * * * *

New York—PM-10
Designated area | Designation: Date | Designation: Type | Classification: Date | Classification: Type
New York County | 1/20/94 | Nonattainment ¹ | 1/20/94 | Moderate.
¹This designation applied only to the annual form of the PM10 NAAQS. The annual PM10 NAAQS was revoked for all areas of the state on October 17, 2006.

* * * * *

3. Section 81.349 is amended by revising the tables titled “West Virginia—1997 Annual PM2.5 NAAQS” and “West Virginia—2006 24-Hour PM2.5 NAAQS” to read as follows:

§ 81.349 West Virginia.

* * * * *

West Virginia—1997 Annual PM2.5 NAAQS
[Primary and secondary]
Designated area ᵃ | Designation: Date ¹ | Designation: Type | Classification: Date ² | Classification: Type
Charleston, WV:
Kanawha County | 3/31/14 | Attainment.
Putnam County | 3/31/14 | Attainment.
Huntington-Ashland, WV-KY-OH:
Cabell County | 12/28/12 | Attainment.
Mason County (part) | 12/28/12 | Attainment.
Graham Tax District
Wayne County | 12/28/12 | Attainment.
Martinsburg, WV-Hagerstown, MD:
Berkeley County | 11/25/14 | Attainment.
Parkersburg-Marietta, WV-OH:
Pleasants County (part) | 9/12/13 | Attainment.
Tax District of Grant
Wood County | 9/12/13 | Attainment.
Steubenville-Weirton, OH-WV:
Brooke County | 3/18/14 | Attainment.
Hancock County | 3/18/14 | Attainment.
Wheeling, WV-OH:
Marshall County | 9/30/13 | Attainment.
Ohio County | 9/30/13 | Attainment.
Rest of State:
Barbour County |  | Unclassifiable/Attainment.
Boone County |  | Unclassifiable/Attainment.
Braxton County |  | Unclassifiable/Attainment.
Calhoun County |  | Unclassifiable/Attainment.
Clay County |  | Unclassifiable/Attainment.
Doddridge County |  | Unclassifiable/Attainment.
Fayette County |  | Unclassifiable/Attainment.
Gilmer County |  | Unclassifiable/Attainment.
Grant County |  | Unclassifiable/Attainment.
Greenbrier County |  | Unclassifiable/Attainment.
Hampshire County |  | Unclassifiable/Attainment.
Hardy County |  | Unclassifiable/Attainment.
Harrison County |  | Unclassifiable/Attainment.
Jackson County |  | Unclassifiable/Attainment.
Jefferson County |  | Unclassifiable/Attainment.
Lewis County |  | Unclassifiable/Attainment.
Lincoln County |  | Unclassifiable/Attainment.
Logan County |  | Unclassifiable/Attainment.
McDowell County |  | Unclassifiable/Attainment.
Marion County |  | Unclassifiable/Attainment.
Mason County (remainder) |  | Unclassifiable/Attainment.
Mercer County |  | Unclassifiable/Attainment.
Mineral County |  | Unclassifiable/Attainment.
Mingo County |  | Unclassifiable/Attainment.
Monongalia County |  | Unclassifiable/Attainment.
Monroe County |  | Unclassifiable/Attainment.
Morgan County |  | Unclassifiable/Attainment.
Nicholas County |  | Unclassifiable/Attainment.
Pendleton County |  | Unclassifiable/Attainment.
Pleasants County (remainder) |  | Unclassifiable/Attainment.
Pocahontas County |  | Unclassifiable/Attainment.
Preston County |  | Unclassifiable/Attainment.
Raleigh County |  | Unclassifiable/Attainment.
Randolph County |  | Unclassifiable/Attainment.
Ritchie County |  | Unclassifiable/Attainment.
Roane County |  | Unclassifiable/Attainment.
Summers County |  | Unclassifiable/Attainment.
Taylor County |  | Unclassifiable/Attainment.
Tucker County |  | Unclassifiable/Attainment.
Tyler County |  | Unclassifiable/Attainment.
Upshur County |  | Unclassifiable/Attainment.
Webster County |  | Unclassifiable/Attainment.
Wetzel County |  | Unclassifiable/Attainment.
Wirt County |  | Unclassifiable/Attainment.
Wyoming County |  | Unclassifiable/Attainment.
ᵃ Includes Indian Country located in each county or area, except as otherwise specified.
¹ This date is 90 days after January 5, 2005, unless otherwise noted.
² This date is July 2, 2014, unless otherwise noted.

* * * * *

West Virginia—2006 24-Hour PM2.5 NAAQS
[Primary and secondary]
Designated area ᵃ | Designation: Date ¹ | Designation: Type | Classification: Date ² | Classification: Type
Charleston, WV:
Kanawha County | 3/31/14 | Attainment.
Putnam County | 3/31/14 | Attainment.
Steubenville-Weirton, OH-WV:
Brooke County | 3/18/14 | Attainment.
Hancock County | 3/18/14 | Attainment.
Rest of State:
Barbour County |  | Unclassifiable/Attainment.
Berkeley County |  | Unclassifiable/Attainment.
Boone County |  | Unclassifiable/Attainment.
Braxton County |  | Unclassifiable/Attainment.
Cabell County |  | Unclassifiable/Attainment.
Calhoun County |  | Unclassifiable/Attainment.
Clay County |  | Unclassifiable/Attainment.
Doddridge County |  | Unclassifiable/Attainment.
Fayette County |  | Unclassifiable/Attainment.
Gilmer County |  | Unclassifiable/Attainment.
Grant County |  | Unclassifiable/Attainment.
Greenbrier County |  | Unclassifiable/Attainment.
Hampshire County |  | Unclassifiable/Attainment.
Hardy County |  | Unclassifiable/Attainment.
Harrison County |  | Unclassifiable/Attainment.
Jackson County |  | Unclassifiable/Attainment.
Jefferson County |  | Unclassifiable/Attainment.
Lewis County |  | Unclassifiable/Attainment.
Lincoln County |  | Unclassifiable/Attainment.
Logan County |  | Unclassifiable/Attainment.
McDowell County |  | Unclassifiable/Attainment.
Marion County |  | Unclassifiable/Attainment.
Marshall County |  | Unclassifiable/Attainment.
Mason County |  | Unclassifiable/Attainment.
Mercer County |  | Unclassifiable/Attainment.
Mineral County |  | Unclassifiable/Attainment.
Mingo County |  | Unclassifiable/Attainment.
Monongalia County |  | Unclassifiable/Attainment.
Monroe County |  | Unclassifiable/Attainment.
Morgan County |  | Unclassifiable/Attainment.
Nicholas County |  | Unclassifiable/Attainment.
Ohio County |  | Unclassifiable/Attainment.
Pendleton County |  | Unclassifiable/Attainment.
Pleasants County |  | Unclassifiable/Attainment.
Pocahontas County |  | Unclassifiable/Attainment.
Preston County |  | Unclassifiable/Attainment.
Raleigh County |  | Unclassifiable/Attainment.
Randolph County |  | Unclassifiable/Attainment.
Ritchie County |  | Unclassifiable/Attainment.
Roane County |  | Unclassifiable/Attainment.
Summers County |  | Unclassifiable/Attainment.
Taylor County |  | Unclassifiable/Attainment.
Tucker County |  | Unclassifiable/Attainment.
Tyler County |  | Unclassifiable/Attainment.
Upshur County |  | Unclassifiable/Attainment.
Wayne County |  | Unclassifiable/Attainment.
Webster County |  | Unclassifiable/Attainment.
Wetzel County |  | Unclassifiable/Attainment.
Wirt County |  | Unclassifiable/Attainment.
Wood County |  | Unclassifiable/Attainment.
Wyoming County |  | Unclassifiable/Attainment.
ᵃ Includes Indian Country located in each county or area, except as otherwise specified.
¹ This date is 30 days after November 13, 2009, unless otherwise noted.
² This date is July 2, 2014, unless otherwise noted.

* * * * *

[FR Doc. 2015-18532 Filed 7-28-15; 8:45 am]

BILLING CODE 6560-50-P